FEDERAL ACCOUNTING STANDARDS ADVISORY BOARD

Notice of Public Hearing

Board Action: Pursuant to 31 U.S.C. 3511(d), the Federal Advisory committee Act (Pub. L. No. 92-463), as amended, and the FASAB Rules Of Procedure, as amended in April, 2004, notice is hereby given that the Federal Accounting Standards Advisory Board (FASAB) will hold a public hearing on February 25th 2009, to hear testimony from respondents to two recently published exposure drafts, Reporting Comprehensive Long-Term Fiscal Projections for the U.S. Government and Accounting for Social Insurance, Revised. Those interested in testifying should contact Eileen Parlow, Assistant Director, no later than February. Please indicate whether you wish to provide testimony on one or both exposure drafts. Also, please provide a short biography and a separate statement summarizing your written response to each exposure draft on which you wish to testify. Ms. Parlow can be reached at 202-512-7356 or via e-mail at parlowe@fasab.gov. The exposure drafts are available on the FASAB Web site http://www.fasab.gov/exposure.html.

Any interested person may attend the meetings as an observer. GAO Building Security requires advance notice of your attendance. Please notify FASAB of your planned attendance by calling 202-512-7350 at least one day prior to the respective meeting.

FOR FURTHER INFORMATION CONTACT: Wendy M. Payne, Executive Director, 441 G St., NW., Mail Stop 6K17V, Washington, DC 20548, or call (202) 512-7350.

Authority: Federal Advisory Committee Act. Pub. L. No. 92-463.

Dated: January 16, 2009.
Charles Jackson,
Federal Register Liaison Officer.

[FR Doc. E9-1413 Filed 1-23-09; 8:45 am]

BILLING CODE 1610-01-M